DEPARTMENT OF EDUCATION

Office of Postsecondary Education Overview Information; Fund for the Improvement of Postsecondary Education (FIPSE)—Special Focus Competition: The U.S.-Russia Program: Improving Research and Educational Activities in Higher Education; Notice Inviting Applications for New Awards for Fiscal Year (FY) 2010.

Catalog of Federal Domestic Assistance (CFDA) Number: 84.116S.

Dates: Applications Available: March 25, 2010.

Deadline for Transmittal of Applications: May 18, 2010.

Deadline for Intergovernmental Review: July 19, 2010.

Full Text of Announcement

I. Funding Opportunity Description

Purpose of Program: The U.S.-Russia Program encourages cooperative education programs between institutions of higher education (IHEs) in the Russian Federation and the United States of America. The objective of this program is to provide grants that demonstrate partnerships between Russian and American IHEs that contribute to the development and promotion of educational opportunities between the two nations. The aim is to use the educational content as the vehicle for learning languages, cultural appreciation, sharing knowledge, and forming long-term relationships between the two countries. In the context of the modern international society and a global economy, an understanding of the cultural context plays a vital role in education and training.

Applications are invited from IHEs with the capacity to contribute to a collaborative project with Russian IHEs. This program is designed to support the formation of educational consortia of American and Russian IHEs to encourage mutual socio-cultural-linguistic cooperation; the joint development of curricula, educational materials, and other types of educational and methodological activities; and related educational student and staff mobility (exchanges).

Priorities: This competition includes one absolute priority and one invitational priority.

Absolute Priority: This priority is from the notice of final priorities for this program, published in the Federal Register on December 11, 2009 (74 FR 65764). For FY 2010 this priority is an absolute priority. Under 34 CFR 75.105(c)(3) we consider only applications that meet this priority.

This priority is:

This priority supports the formation of educational consortia of U.S. and Russian institutions to encourage mutual socio-cultural-linguistic cooperation; the coordination of joint development of curricular, educational materials; and the exchange of students. In order to be eligible for an award under this priority, the applicant in the U.S. must be a U.S. institution and the applicant in Russia must be a Russian institution. Russian institutions will receive separate but parallel funding from the Russian Ministry of Education and Science.

An interested American IHE must form a consortium with one or more of the following Russian IHEs:

(1) Moscow State Technical University; 105005, Moscow, 2 Baumanskaia str,5; POC: Irina Chubukova, Head, Office of International Projects; Ph. +7-499-2636218, E-mail: ichubukova@bmstu.ru.

(2) Tomsk Politechnical University, 634050, Tomsk, Lenin av., 30; POC: Gromov Alexander, Deputy Vice Rector; Ph. +7-3822-701776, E-mail: gromov@tpu.ru.

(3) Kazan State Technical University; 420111, Karl Marks str., 10, Kazan; POC: Lanbaev Fatih, Ph. +7-843-2389159, E-mail: aurum_fr@mail.ru.

(4) Saint-Petersburg State University of Information Technologies, Department of Mechanics and Optics, 199034, St. Peterburg Birgevoi per., 16; POC: Toivonen Nikolai, Vice rector, Ph. +7-812-4384511, E-mail: toivonen@hq.pu.ru.

(5) National University of Science and Technology MISIS, 119049, Moscow, Leninski av., 4; POC: Timothy O'Connor, Vice Rector, Ph. +7-495-2368152, E-mail: tim.oconnor@misis.ru.

(6) National Research Nuclear University, 115409, Moscow, Kashirskoe sh., 31; POC: Ivliev Sergei, Ph. +7-495-3239377, E-mail: ivliev@theor.mephi.ru.

(7) State University—Higher School of Economics, 101000, Moscow, Miasnitskaia, 20; POC: Isak Froumin, Vice Rector, Ph. +7-495-6235249, E-mail: ifroumin@hse.ru.

(8) Novosibirsk State University, 630090, Novosibirsk Pirogova str., 2; POC: Tsurkan Alexey, Director of Institute, Ph. +7-383-3302334, E-mail: gelberiets@ngs.ru.

(9) Saint-Petersburg State Mining Institute (Technical University), 199106, St. Petersburg Vasilievski Island, line 21, 2; POC: Trushko Vladimir, Vice Rector, Ph. +7-812-3214071, E-mail: trushko@spmi.ru.

(10) Moscow Institute of Physics and Technology (State University), 141700, Moscow reg., Dolgoprudny, Istitutski per., 9; POC: Muravyov Alexander, Director of Innovation Center, Ph. +7-495-4088544, E-mail: amuravyov@miptic.ru.

(11) Perm State Technical University, 614990, Perm, Komsomolski av., 29, POC: Tashkinov Anatolyy, Vice Rector, Ph. 7-3422198430, E-mail: adm@pstu.ru.

(12) Samara State Aerospace University, 443086, Samara, Moscovskoe sh., 34, POC: Prokhorov Alexander, Head of Department, Ph. +7-846-2674411, E-mail: prokhorov@ssau.ru.

(13) Nizhni Novgorod State University, 603950, Nizhi Novgorod, Gagarin, av., 23; POC: Kuftyrev Ilia, Head of Department, Ph. 7-8314623102, E-mail: foreign@unn.ru.

Invitational Priority: For FY 2010, this priority is an invitational priority. Under 34 CFR 75.105(c)(1), we do not give an application that meets this invitational priority a competitive or absolute preference over other applications.

For FY 2010, the Department and the Russian Ministry have jointly decided to make up to six awards in the following three subject areas:

(A) Science and Technology

(B) Environmental Science

(C) Education, Culture, and Society

Below is a list of examples of the issues in these subject areas. However, we define these areas broadly and applicants are not limited to the examples given below. Applications are invited from consortia partners with the capacity to bring together expertise from their respective countries to find innovative ways to address global issues and challenges faced by both Russia and the U.S. Examples of the subject areas covered by this invitational priority include the following:

A. Science and Technology

○ Nanotechnology

○ Agricultural practices under climate change

○ Biotechnology to support food production and environment

○ Lifestyle, diet, and personal health under changing demographics

○ Evolution and control of global diseases

○ New electronic media for teaching and learning

B. Environmental Science

○ Impact of climate change on ecosystems

○ Natural resources for alternative energy

○ Energy conservation in buildings and appliances

○ Emission reduction

○ Sustainable development

○ Waste management

○ Preservation of natural habitats, ocean resources, and forests

○ Biodiversity

C. Education, Culture, and Society

○ Teacher preparation for emerging sciences

○ Role of two-year and community colleges, and vocational and technical institutions in meeting graduation targets

○ Religious and cultural tolerance in a global society

○ Impact of culture on trade and business

○ Sustainability of major political systems

○ Public awareness of the climate change and sustainability of the environment

○ Public participation in nuclear disarmament and fighting terrorism

○ Use of media to promote religious, cultural and social tolerance

○ Role of free and independent media in a democratic society

Program Authority: 20 U.S.C. 1138-1138d.

Applicable Regulations: The Education Department General Administrative Regulations (EDGAR) in 34 CFR parts 74, 75, 77, 79, 80, 82, 84, 85, 86, 97, 98, and 99.

Note: The regulations in 34 CFR part 79 apply to all applicants except federally recognized Indian tribes.

Note: The regulations in 34 CFR part 86 apply to IHEs only.

II. Award Information

Type of Award: Discretionary grants.

Estimated Available Funds: $800,000.

Estimated Range of Awards: $100,000-$150,000 for the first year; $300,000-$400,000 for the entire 36-month grant period.

Estimated Average Size of Awards: $133,000 for the first year; $350,000 for the entire 36-month grant period.

Maximum Award: We will reject any application that proposes a budget exceeding $150,000 for a single budget period of 12 months. The Assistant Secretary for Postsecondary Education may change the maximum amount through a notice published in the Federal Register.

Estimated Number of Awards: 6.

Note: The Department is not bound by any estimates in this notice.

Project Period: Up to 36 months.

III. Eligibility Information

1. Eligible Applicants: IHEs or combinations of IHEs and other public and private nonprofit institutions and agencies.

2. Cost Sharing or Matching: This program does not require cost sharing or matching.

IV. Application and Submission Information

1. Address to Request Application Package: You can obtain an application package via the Internet or from the Education Publications Center (ED Pubs). To obtain a copy via the Internet, use the following address: http://e-grants.ed.gov. To obtain a copy from ED Pubs, write, fax, or call the following: Education Publications Center, P.O. Box 22207, Alexandria, VA 22304. Telephone, toll free: 1-877-433-7827. FAX: (703) 605-6794. If you use a telecommunications device for the deaf (TDD), call, toll free: 1-877-576-7734.

You can contact ED Pubs at its Web site, also: http://www.edpubs.gov or at its e-mail address: edpubs@inet.ed.gov.

If you request an application from ED Pubs, be sure to identify this program or competition as follows: CFDA number 84.116S.

Individuals with disabilities can obtain a copy of the application package in an accessible format (e.g., braille, large print, audiotape, or computer diskette) by contacting the person listed under Accessible Format in Section VIII of this notice.

2. Content and Form of Application Submission: Requirements concerning the content of an application, together with the forms you must submit, are in the application package for this competition.

Page Limit: The application narrative [Part III of the application] is where you, the applicant, address the selection criteria that reviewers use to evaluate your application. You must limit the application narrative [Part III] to the equivalent of no more than 20 typed pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger, or no smaller than 10 pitch (characters per inch).

• Use one of the following fonts: Times New Roman, Courier, Courier New, or Arial. An application submitted in any other font (including Times Roman and Arial Narrow) will not be accepted.

The page limit does not apply to Part I, the cover sheet; Part II, the budget section, including the narrative budget justification; Part IV, the assurances and certifications; or the one-page abstract, the resumes, the bibliography, or the letters of support. However, the page limit does apply to all of the application narrative section [Part III].

We will reject your application if you exceed the page limit.

3. Submission Dates and Times:

Applications Available: March 25, 2010.

Deadline for Transmittal of Applications: May 18, 2010.

Applications for grants under the U.S.-Russia Program: Improving Research and Educational Activities in Higher Education, CFDA Number 84.116S, must be submitted electronically using the Electronic Grant Application System (e-Application) accessible through the Department's e-Grants Web site. For information (including dates and times) about how to submit your application electronically, or by mail or hand delivery if you qualify for an exception to the electronic submission requirement, please refer to Section IV. 6. Other Submission Requirements of this notice.

We do not consider an application that does not comply with the deadline requirements.

Individuals with disabilities who need an accommodation or auxiliary aid in connection with the application process should contact the person listed under FOR FURTHER INFORMATION CONTACT in Section VII of this notice. If the Department provides an accommodation or auxiliary aid to an individual with a disability in connection with the application process, the individual's application remains subject to all other requirements and limitations in this notice. Deadline for Intergovernmental Review: July 19, 2010.

4. Intergovernmental Review: This program is subject to Executive Order 12372 and the regulations in 34 CFR part 79. Information about Intergovernmental Review of Federal Programs under Executive Order 12372 is in the application package for this program.

5. Funding Restrictions: We specify unallowable costs in 34 CFR part 74. We reference additional regulations outlining funding restrictions in the Applicable Regulations section of this notice.

6. Other Submission Requirements: Applications for grants under this competition must be submitted electronically unless you qualify for an exception to this requirement in accordance with the instructions in this section.

a. Electronic Submission of Applications.

Applications for grants under the U.S.-Russia Program: Improving Research and Educational Activities in Higher Education, CFDA Number 84.116S, must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (See VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement and may submit your application in paper format, if you are unable to submit an application through e-Application because—

• You do not have access to the Internet; or

• You do not have the capacity to upload large documents to e-Application; and

• No later than two weeks before the application deadline date (14 calendar days; or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Krish Mathur, U.S. Department of Education, 1990 K Street, NW., Room 6155, Washington, DC 20006-8544. FAX: (202) 502-7877.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.116S), LBJ Basement Level, 1 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 84.116S), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for evaluating the applications for this program are from 34 CFR 75.210 and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to Error! Hyperlink reference not valid..

4. Performance Measures: Under the Government Performance and Results Act (GPRA), the Department will use the following measures to assess the performance of this program:

(a) The percentage of FIPSE grantees reporting project dissemination to others.

(b) The percentage of FIPSE projects reporting institutionalization on their home campuses.

If funded, you will be asked to collect and report data on these measures in your project's annual performance report (34 CFR 75.590). Applicants are also advised to consider these two measures in conceptualizing the design, implementation, and evaluation of the proposed project because of their importance in the application review process. Collection of data on these measures should be part of the project evaluation plan, along with any measures of progress on goals and objectives that are specific to your project.

VII. Agency Contacts

For Further Information Contact: Krish Mathur, FIPSE—Fund for the Improvement of Postsecondary Education, 1990 K Street, NW., Room 6155, Washington, DC 20006-8544. Telephone: (202) 502-7512 or by e-mail: krish.mathur@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in Section VII of this notice.

Electronic Access to This Document: You can view this document, as well as all other documents of this Department published in the Federal Register, in text or Adobe Portable Document Format (PDF) on the Internet at the following site: http://www.ed.gov/news/fedregister.

To use PDF, you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the function and duties of the Assistant Secretary for Postsecondary Education.

Dated: March 22, 2010.
Daniel T. Madzelan,
Director, Forecasting and Policy Analysis.

[FR Doc. 2010-6657 Filed 3-24-10; 8:45 am]

BILLING CODE 4000-01-P